ENVIRONMENTAL PROTECTION AGENCY

[FRL-8705-4]

Proposed CERCLA Administrative Cost Recovery Settlement; North Hollywood Operable Unit of the San Fernando Valley Superfund Site, Area 1

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of response costs concerning the North Hollywood Operable Unit of the San Fernando Valley Superfund Site, Area 1, located in the vicinity of Los Angeles, California, with the following settling parties: Honeywell International, Inc.; Lockheed Martin Corporation; Calmat Co. dba Vulcan Materials, Western Division; and California Car Hikers Services, Inc. The settlement requires the settling parties to pay a total of $1,300,920 to the North Hollywood Operable Unit Special Account within the Hazardous Substance Superfund. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Los Angeles Department of Water and Power (LADWP) Library, 111 North Hope Street, Room 518, Los Angeles, CA 90012 and at the EPA Region 9 Superfund Records Center, Mail Stop SFD-7C, 95 Hawthorne Street, Room 403, San Francisco, CA 94105.

DATES: Comments must be submitted on or before September 15, 2008.

ADDRESSES: The proposed settlement is available for public inspection at the EPA Region 9 Superfund Records Center, Mail Stop SFD-7C, 95 Hawthorne Street, Room 403, San Francisco, CA 94105. A copy of the proposed settlement may be obtained from Danielle Carr, EPA Region 9, 75 Hawthorne Street, Mail Stop ORC-1, San Francisco, CA 94105, (415) 972-3871. Comments should reference the North Hollywood Operable Unit of the San Fernando Valley Superfund Site, Area 1, and EPA Docket No. 9-2008-0024 and should be addressed to Danielle Carr, EPA Region 9, 75 Hawthorne Street, Mail Stop ORC-1, San Francisco, CA 94105.

FOR FURTHER INFORMATION CONTACT: Rachel Loftin, EPA Region 9, 75 Hawthorne Street, Mail Stop SFD-7-4, San Francisco, CA 94105, (415) 972-3253.

Dated: August 7, 2008.
Nancy Lindsay,
Acting Superfund Division Director.

[FR Doc. E8-18974 Filed 8-14-08; 8:45 am]

BILLING CODE 6560-50-P